DEPARTMENT OF JUSTICE

[AAG/A Order No. 020-2005]

Privacy Act of 1974; System of Records

Pursuant to the provisions of the Privacy Act of 1974 (5 U.S.C. 552a), notice is given that the Department of Justice proposes to modify a Departmentwide system of records entitled “Accounting Systems for the Department of Justice (DOJ), DOJ-001.” This system of records was last published on June 3, 2004 at 69 FR 31406. The major modification of the system involves the addition of certain Federal Bureau of Investigation (FBI) accounting records resulting in a new security classification. The system now contains classified documents as well as Sensitive But Unclassified (SBU) documents. Other modifications include: Minor edits to the Safeguards section regarding access; a new system manager for the Justice Management Division; additions to the Categories of Individuals Covered by the System; an addition to the Categories of Records in the System; and a minor correction to the section on Disclosure to Consumer Reporting Agencies, and non-substantive edits.

In accordance with 5 U.S.C. 552a(e) (4) and (11), the public is given a 30-day period in which to comment on this notice; and the Office of Management and Budget (OMB), which has oversight responsibility under the Act, requires a 40-day period in which to conclude its review of the system. Therefore, please submit any comments by February 13, 2006. The public, OMB, and the Congress are invited to submit any comments to Mary E. Cahill, Management and Planning Staff, Justice Management Division, Department of Justice, Washington, DC 20530 (Room 1400, National Place Building).

In accordance with 5 U.S.C. 552a(r), the Department has provided a report to OMB and the Congress.

Dated: December 15, 2005.
Paul R. Corts,
Assistant Attorney General for Administration.

Department of Justice—001

System Name:

Accounting Systems for the Department of Justice (DOJ).

Security Classification:

The DOJ Accounting Systems may be Sensitive But Unclassified (SBU) or Classified.

* * * * *

Categories of Individuals Covered by the System:

Individuals/persons (including DOJ employees; and including current and former inmates under the custody of the Attorney General) who are in a relationship, or who seek a relationship, with the DOJ or a component thereof—a relationship that may give rise to an accounts receivable, an accounts payable, or to similar accounts such as those resulting from a grantee/grantor relationship; and federal debtors, including those who have received overpayments through direct financial assistance, those who owe debts of restitution based on civil or criminal judgments entered by federal courts, and those who have obtained insured or guaranteed loans from federal agencies, and whose delinquent debts have been sent by client federal agencies to the DOJ for enforced collection through litigation. Included may be:

(a) * * *

(b) * * *

(c) * * *

(d) * * *

(e) Those who have made partial or full payments to be applied to their federal debt.

Categories of Records in the System:

(1) All documents used to reserve, obligate, process, and effect collection or payment of funds, e.g., vouchers (excluding payroll vouchers), invoices, purchase orders, travel advances, travel/transfer vouchers and other such documentation reflecting information about: (a) Payments due or made to, (b) claims made or debts owed by the individuals covered by this system, including fees, fines, penalties, overpayments, and/or other assessments; all documents used to comply with reporting regulations of the Internal Revenue Service of the Department of Treasury; and (3) all documentation and information pertaining to the receipt of payments made by or on the behalf of federal debtors against their debts and the disbursement or transfer of those payments by DOJ to the appropriate recipients.

* * * * *

Disclosure to Consumer Reporting Agencies:

Only as noted in Routine Use 20(b) and Routine Use 23 in the Federal Register notice of June 3, 2004 (69 FR 31406).

Policies and Practices for Storing, Retrieving, Accessing, Retaining, and Disposing of Records in the System:

* * * * *

Safeguards:

All data will be protected in accordance with applicable DOJ and federal guidance, policies, and directives based on the security classification of the information/system. Access is limited to DOJ personnel with a need to know. Access to computerized information is controlled by passwords, or similar safeguards, which are issued only to authorized personnel. Records are retained in the form of digitized images on a server to which limited workstations have access. Passwords control access to the server from these workstations. Paper records, and some computerized media, are kept in locked files of locked offices during off duty hours. In addition, servers, workstations, and offices are located in controlled-access buildings.

* * * * *

System Manager(s) and Addresses:

DAAG/Controller, Finance Staff, Justice Management Division (JMD), U.S. Department of Justice, 950 Pennsylvania Ave., NW., Washington, DC 20530.

* * *

* * *

* * *

* * *

* * *

* * *

* * * * *

[FR Doc. E5-8199 Filed 12-30-05; 8:45 am]

BILLING CODE 4410-FB-P